DEPARTMENT OF LABOR

Employment and Training Administration

Agency Information Collection Activities; Comment Request

ACTION: Notice.

SUMMARY: The Department of Labor's (DOL) Employment and Training Administration (ETA) is soliciting comments concerning a proposed extension with revisions for the information collection request (ICR) titled, “The Senior Community Service Employment Program (SCSEP) Programmatic and Performance Reporting Requirements.” This comment request is part of continuing Departmental efforts to reduce paperwork and respondent burden in accordance with the Paperwork Reduction Act of 1995 (PRA).

DATES: Submit written responses on or before June 15, 2021.

ADDRESSES: A copy of this ICR with applicable supporting documentation, including a description of the likely respondents, proposed frequency of response, and estimated total burden, may be obtained free by contacting Irene Adams Jefferson by telephone at (202) 693-3045 (this is not a toll-free number), TTY 1-877-889-5627 (this is not a toll-free number), or by email at ICRComments.SCSEP@dol.gov.

Submit written comments about, or requests for a copy of, this ICR by email: ICRComments.SCSEP@dol.gov. Due to building capacity limitations during the pandemic, we strongly recommend the commenters submit their feedback via email. However, the Department maintains the ability to receive comments by mail. Commenters can submit comments by mail to U.S. Department of Labor/Employment and Training Administration; Office of Workforce Investment; Senior Community Service Employment Program, Room C-4510, 200 Constitution Avenue NW, Washington, DC 20210 or by fax: (202) 693-3015.

FOR FURTHER INFORMATION CONTACT: Irene Adams Jefferson by telephone at (202) 693-3045 (this is not a toll-free number) or by email at ICRComments.SCSEP@dol.gov.

SUPPLEMENTARY INFORMATION: DOL, as part of continuing efforts to reduce paperwork and respondent burden, conducts a pre-clearance consultation program to provide the general public and Federal agencies an opportunity to comment on proposed and/or continuing collections of information before submitting them to the Office of Management and Budget (OMB) for final approval. This program helps to ensure requested data can be provided in the desired format, reporting burden (time and financial resources) is minimized, collection instruments are clearly understood, and the impact of collection requirements can be properly assessed.

Title V of the Older Americans Act of 1965 (Reauthorized by Pub. L. 116-131, March 25, 2020) authorizes this information collection. The purposes of this Information Collection Request are to fulfill the statutory requirements for SCSEP data collection by supporting ETA's ability to collect grantee performance data, including information on participant characteristics and outcomes (and pursuant to OAA 2020); document the equitable distribution of SCSEP services; assess customer satisfaction with the SCSEP program; and ensure that states are reporting on the SCSEP program as part of the State Plan process. Toward these goals, this ICR seeks to:

• Renew, with revisions, the existing legacy data collection instruments—ETA-9120—Participant Form, ETA-9121—Community Service Assignment Form, ETA-9122—Exit Form, and ETA-9123—Unsubsidized Employment Form—for use until such time as the legacy system is replaced by the new Grant Performance Management System (GPMS);

• Combine the four existing data collection instruments (ETA-9120—Participant Form, ETA-9121—Community Service Assignment Form, ETA-9122—Exit Form, and ETA-9123—Unsubsidized Employment Form) with those data elements approved under Control No. 1205-0521 that are incorporated into the new GPMS, and additional data elements newly developed for both the legacy system and GPMS and not previously approved, as a single data collection instrument. Grantees will use this data collection instrument, GPMS once it is implemented and replaces SPARQ;

• Renew, with revisions, the legacy SCSEP Quarterly Progress Report (ETA-5140) and the new Quarterly Performance Report for SCSEP (ETA-9173-SCSEP);

• Renew, without revisions, the Equitable Distribution (ED) Reports (ETA-8705A, and ETA-8705B); and add ED to the annual planning process;

• Renew, with revisions, SCSEP's survey collection instruments: ETA-9124A- Participant Survey and ETA-9124B—Host Agency Survey, and renew, without changes, the ETA-9124C—Employer Survey.

This information collection is subject to the PRA. A Federal agency generally cannot conduct or sponsor a collection of information, and the public is generally not required to respond to an information collection, unless it is approved by OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention “OMB Control Number 1205-0040.”

Submitted comments will also be a matter of public record for this ICR and posted on the internet, without redaction. DOL encourages commenters not to include personally identifiable information, confidential business data, or other sensitive statements/information in any comments.

DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, (e.g., permitting electronic submission of responses).

Agency: DOL ETA.

Type of Review: Revision.

Title of Collection: The Senior Community Service Employment Program (SCSEP) Programmatic and Performance Reporting Requirements.

Forms: ETA-5140—Quarterly Progress Report; ETA-8705—Equitable Distribution Report Instructions; ETA-8705A—State Equitable Distribution Report; ETA-8705B—Grantee Equitable Distribution Report; ETA-9120—Participant Form; ETA-9121—Community Service Assignment Form; ETA-9122-Exit Form; ETA-9123—Unsubsidized Employment Form; ETA-9124A—Customer Satisfaction Participant Survey; ETA-9124B—Customer Satisfaction Host Agency Survey; ETA-9124C—Customer Satisfaction Employer Survey; ETA-9173-SCSEP Quarterly Performance Report.

OMB Control Number: 1205-0040.

Affected Public: Individuals and households; State, local, and tribal governments; and the private sector (businesses or other for-profits, and not-for-profit institutions).

Estimated Number of Respondents: 70,331.

Frequency: Varies.

Total Estimated Annual Responses: 70,331.

Estimated Average Time per Response: Varies.

Estimated Total Annual Burden Hours: 157,898 hours.

Total Estimated Annual Other Cost Burden: $1,457,328.08.

Authority: 44 U.S.C. 3506(c)(2)(A).

Suzan G. LeVine,
Principal Deputy Assistant Secretary for Employment and Training, Labor.

[FR Doc. 2021-07809 Filed 4-15-21; 8:45 am]

BILLING CODE 4510-FN-P